FEDERAL COMMUNICATIONS COMMISSION

47 CFR Part 1

[MD Docket No. 03-83; FCC 03-184]

Assessment and Collection of Regulatory Fees for Fiscal Year 2003; Correction

AGENCY: Federal Communications Commission.

ACTION: Final rule; correction.

SUMMARY: The Commission corrects the Assessment and Collection of Regulatory Fees for Fiscal Year 2003, Report and Order, adopted on July 21, 2003 and released on July 25, 2003.

DATES: Effective September 11, 2003.

FOR FURTHER INFORMATION CONTACT: Roland Helvajian, Office of Managing Director, (202) 418-0444.

SUPPLEMENTARY INFORMATION: The Office of the Managing Director wishes to make the following correction in our recently released Assessment and Collection of Regulatory Fees for Fiscal Year 2003, Report and Order (68 FR 48445 (August 13, 2003). The corrections are as follows:

1. On page 48466, in the third column of § 1.1152, the fee amounts in the first four entries, in the second column of the table, immediately following the 220 MHz Nationwide heading is corrected to read $10.00 instead of $5.00.

Federal Communications Commission
Marlene H. Dortch,
Secretary.

[FR Doc. 03-23131 Filed 9-10-03; 8:45 am]

BILLING CODE 6712-01-P